DEPARTMENT OF THE INTERIOR

Fish and Wildlife Service

[FWS-R9-R-2009-N0025; 93261-99CS-0000-4A]

Proposed Information Collection; Survey of National Wildlife Refuge Visitors Service Refuge Visitors

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before April 6, 2009.

ADDRESSES: Send your comments on the IC to Hope Grey, Information Collection Clearance Officer, Fish and Wildlife Service, MS 222-ARLSQ, 4401 North Fairfax Drive, Arlington, VA 22203 (mail); hope_grey@fws.gov (e-mail).

FOR FURTHER INFORMATION CONTACT: To request additional information about this ICR, contact Hope Grey by mail, or e-mail (see ADDRESSES) or by telephone at (703) 358-2482.

SUPPLEMENTARY INFORMATION:

I. Abstract

We have contracted with the U.S. Geological Survey (USGS) to conduct a survey of national wildlife refuge visitors so that we can better understand their recreational, educational, and information experiences. The Policy Analysis and Science Assistance Branch of the USGS will conduct the survey onsite at approximately 75 national wildlife refuges nationwide. Respondents will have the option to return the survey by mail or to complete it online.

We will use this survey to measure visitor satisfaction with current visitor services and facilities and their desire for future services and facilities. Information from this survey will provide refuge managers, planners, and visitor services professionals with scientifically sound data that can be used to:

(1) Prepare conservation planning documents,

(2) Improve the design of visitor facilities,

(3) Tailor visitor services and facilities to match visitor interests and needs,

(4) Better protect refuge resources by combining this data with biological data, and

(5) Understand the economic impact of visitors to the local community.

Additionally, this survey can target public access and transportation planning issues related to wildlife-oriented recreational opportunities such as auto tour routes, trails, parking lots, and roads.

II. Data

OMB Control Number: None. This is a new collection.

Title: Survey of National Wildlife Refuge Visitors.

Service Form Number(s): None.

Type of Request: New.

Affected Public: Visitors to national wildlife refuges.

Respondent's Obligation: Voluntary.

Frequency of Collection: Biannual.

Estimated Annual Number of Respondents: 15,000 (approximately 200 visitors at 75 national wildlife refuges).

Estimated Total Annual Responses: 15,000.

Estimated Time per Response: 20 minutes.

Estimated Total Annual Burden Hours: 5,000.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: January 22, 2009
Hope Grey,
Information Collection Clearance Officer, Fish and Wildlife Service.

FR Doc. E9-2146 Filed 2-2-09; 8:45 am

BILLING CODE 4310-55-S